CONSUMER PRODUCT SAFETY COMMISSION

Notification of Request for Extension of Approval of Information Collection Requirements—Testing and Recordkeeping Requirements Under the Standard for the Flammability of Mattresses and Mattress Pads

AGENCY: Consumer Product Safety Commission.

ACTION: Notice.

SUMMARY: In the April 30, 2001 Federal Register (66 FR 21375), the Consumer Product Safety Commission published a notice in accordance with provisions of the Paperwork Reduction Act of 1995 (44 U.S.C. chapter 35) to announce the agency's intention to seek an extension of approval of information collection requirements in the Standard for the Flammability of Mattresses and Mattress Pads (16 CFR part 1632).

The Commission now announces that it has submitted to the Office of Management and Budget a request for extension of approval of that collection of information.

The standard is intended to reduce unreasonable risks of burn injuries and deaths from fires associated with mattresses and mattress pads. The standard prescribes a test to assure that a mattress or mattress pad will resist ignition from a smoldering cigarette. The standard requires manufacturers to perform prototype tests of each combination of materials and construction methods used to produce mattresses or mattress pads and to obtain acceptable results from such testing. Sale or distribution of mattresses without successful completion of the testing required by the standard violates section 3 of the Flammable Fabrics Act (15 USC 1192). An enforcement rule implementing the standard requires manufacturers to maintain records of testing performed in accordance with the standard and other information about the mattress or mattress pads which they produce.

Additional Information About the Request for Extension of Approval of Information Collection Requirements

Agency address: Consumer Product Safety Commission, Washington, D.C. 20207.

Title of information collection: Testing and Recordkeeping Requirements Under the Standard for the Flammability of Mattresses and Mattress Pads, 16 CFR Part 1632.

Type of request: Extension of approval.

Frequency of collection: Varies, depending upon the number of individual combinations of materials and methods of construction used to produce mattresses.

General description of respondents: Manufacturers and importers of mattresses and mattress pads.

Estimated Number of respondents: 850.

Estimated number of hours for all respondents: 22,100 per year.

Estimated cost of collection for all respondents: $298,350.

Comments: Comments on this request for extension of approval of information collection requirements should be submitted by August 27, 2001 to (1) the Office of Information and Regulatory Affairs, Attn: OMB Desk Officer for CPSC, Office of Management and Budget, Washington DC 20503; telephone: (202) 395-7340, and (2) the Office of the Secretary, Consumer Product Safety Commission, Washington, DC 20207. Comments may also be sent to the Office of the Secretary by facsimile at (301) 504-0416 or by e-mail at cpsc-os@cpsc.gov

Copies of this request for an extension of an information collection requirement are available from Linda L. Glatz, Office of Planning and Evaluation, Consumer Product Safety Commission, Washington, DC 20207; telephone: (301) 504-0416, extension 2243, or by e-mail to lglatz@cpsc.gov.

Dated: July 23, 2001.
Todd Stevenson,
Acting Secretary, Consumer Product Safety Commission.

[FR Doc. 01-18692 Filed 7-26-01; 8:45 am]

BILLING CODE 6355-01-P